DEPARTMENT OF TRANSPORTATION

Coast Guard

33 CFR Part 117

[CGD11-02-005]

Drawbridge Operation Regulations; Sacramento River, Walnut Grove, CA

AGENCY: Coast Guard, DOT.

ACTION: Notice of temporary deviation from regulations.

SUMMARY: The Commander, Eleventh Coast Guard District has issued a temporary deviation to the regulation governing the opening of the Walnut Grove Highway drawbridge, mile 26.7, over the Sacramento River at Walnut Grove, CA. This deviation allows the drawbridge to require 1 hour advance notice before opening, and allows the drawbridge to perform single leaf operation of the drawspan for vessel traffic. This deviation is necessary to allow Sacramento County to perform essential repairs to the bridge operating machinery.

DATES: This deviation is effective from 8 a.m. on Monday, October 28, until 5 p.m. on Friday, November 1, 2002.

ADDRESSES: Materials referred to in this rule are available for inspection or copying at the Eleventh Coast Guard District, Bridge Administration Section, Building 50-6 Coast Guard Island, Alameda, CA 94501-5100, between 8 a.m. and 4 p.m., Monday through Friday, except Federal holidays. The phone number is (510) 437-3516. The Bridge Administration Section maintains the public docket for this rulemaking.

FOR FURTHER INFORMATION CONTACT: Mr. David H. Sulouff, Chief, Bridge Section, Eleventh Coast Guard District, phone (510) 437-3516.

SUPPLEMENTARY INFORMATION: The Walnut Grove Highway drawbridge, mile 26.7, over the Sacramento River at Walnut Grove, CA, is owned and operated by Sacramento County. It is a double leaf bascule drawbridge providing 21 feet vertical clearance above mean high water in the closed-to-navigation position. Vessels that can pass under the bridge without an opening may do so at all times. Presently, as set out in 33 CFR 117.189, the draw is required to open on signal from 9 a.m. to 5 p.m., November 1 through April 30; and 6 a.m. to 10 p.m., May 1 through October 31; and all other times if at least 4 hours advance notice is given. At the bridge location, the Sacramento River is navigated by commercial and recreational vessels requiring several daily openings of the drawspan.

During the repair period, 1 hour advance notice will be required before opening and the bridge will perform single leaf operation of the drawspan for vessel traffic from 8 a.m. to 5 p.m. daily, October 28 through November 1, 2002. Single leaf openings will be provided for emergency operation upon 15 minute advance notice. Sacramento County requested a temporary deviation from the normal operation of the drawbridge in order to allow for repairs. This deviation has been coordinated with waterway users. No objections were received.

In accordance with 33 CFR 117.35(c), this work will be performed with all due speed in order to return the bridge to normal operation as soon as possible. This deviation from the normal operating regulations in 33 CFR 117.5 is authorized in accordance with the provisions of 33 CFR 117.35.

Dated: September 13, 2002.
T.S. Sullivan,
U.S. Coast Guard, Acting Commander, Eleventh Coast Guard District.

[FR Doc. 02-24663 Filed 9-26-02; 8:45 am]

BILLING CODE 4910-15-P